ENVIRONMENTAL PROTECTION AGENCY

40 CFR Part 63

[NV053-0076b; FRL-7670-2]

Delegation of National Emission Standards for Hazardous Air Pollutants for Source Categories; State of Nevada; Nevada Division of Environmental Protection—Bureau of Air Pollution Control

AGENCY: Environmental Protection Agency (EPA).

ACTION: Proposed rule.

SUMMARY: Pursuant to section 112(l) of the 1990 Clean Air Act, EPA granted delegation of specific national emission standards for hazardous air pollutants (NESHAPs) to the Nevada Division of Environmental Protection—Bureau of Air Pollution Control on January 12, 2004. EPA is proposing to revise regulations to reflect the current delegation status of NESHAPs in Nevada.

DATES: Any comments on this proposal must arrive by July 7, 2004.

ADDRESSES: Send comments to Andrew Steckel, Rulemaking Office Chief (AIR-4), U.S. Environmental Protection Agency, Region IX, 75 Hawthorne Street, San Francisco, CA 94105-3901, or e-mail to steckel.andrew@epa.gov, or submit comments at http://www.regulations.gov.

Copies of the submitted request are available for public inspection at EPA's Region IX office during normal business hours (docket number A-96-25) by appointment.

FOR FURTHER INFORMATION CONTACT: Mae Wang, EPA Region IX, (415) 947-4124, wang.mae@epa.gov.

SUPPLEMENTARY INFORMATION: This document concerns the delegation of unchanged NESHAPs to the Nevada Division of Environmental Protection—Bureau of Air Pollution Control. In the Rules and Regulations section of this Federal Register, EPA is amending regulations to reflect the current delegation status of NESHAPs in Nevada. EPA is taking direct final action without prior proposal because the Agency views this as a noncontroversial action and anticipates no adverse comments. A detailed rationale for this approval is set forth in the direct final rule. If no adverse comments are received, no further activity is planned. If EPA receives adverse comments, the direct final rule will be withdrawn and all public comments received will be addressed in a subsequent final rule based on this proposed rule. The EPA will not institute a second comment period. Any parties interested in commenting should do so at this time. For further information, please see the direct final action.

Authority: This action is issued under the authority of section 112 of the Clean Air Act, as amended, 42 U.S.C. 7412.

Dated: May 18, 2004.
Deborah Jordan,
Director, Air Division, Region IX.

[FR Doc. 04-12774 Filed 6-4-04; 8:45 am]

BILLING CODE 6560-50-P